DEPARTMENT OF AGRICULTURE

Forest Service

Southwest Oregon Province Interagency Executive Committee (PIEC) Advisory Committe

AGENCY: Forest Service, USDA.

ACTION: Notice of meeting.

SUMMARY: The Southwest Oregon PIEC Advisory Committee will meet on August 3, 2000 at Diamond Lake Resort, east of Roseburg, Oregon. The meeting will begin at 9 a.m. and continue until 5 p.m. Agenda items to be covered include: (1) Diamond Lake Fish Rehabilitation; (2) BLM Off-Highway Vehicle Strategy; (3) Province Large Woody Material Follow-up; (4) Implementing Ecosystem Management on the Umpqua National Forest; (5) Public Comment; and (6) Current issues as perceived by Advisory Committee members.

FOR FURTHER INFORMATION CONTACT: Direct questions regarding this meeting to Terrie Davis, Province Advisory Committee Staff Assistant, USDA, Forest Service, Umpqua National Forest, 2900 NW Stewart Parkway, Roseburg, Oregon 97470, phone (541) 957-3210.

Dated: July 13, 2000.
Michael D. Hupp,
Acting Designated Federal Official.

[FR Doc. 00-18183 Filed 7-18-00; 8:45 am]

BILLING CODE 3410-11-M